DEPARTMENT OF ENERGY

Notice of Request for Information (RFI) on Frontiers in AI for Science, Security, and Technology (FASST) Initiative; Reopening of Comment Period

AGENCY: Office of Critical and Emerging Technologies, Department of Energy.

ACTION: Request for information; reopening of public comment period.

SUMMARY: On September 12, 2024, the U.S. Department of Energy (“DOE”) published a request for information (“RFI”) to inform how DOE and its 17 national laboratories can provide a national AI capability in the public interest. The RFI provided an opportunity for submitting written comments and public input by November 11, 2024. Due to overwhelming public interest, DOE is reopening the public comment period to allow comments to be submitted until February 17, 2025.

DATES: The comment period for the RFI published on September 12, 2024 (89 FR 74268) is reopened. DOE will accept comments regarding this RFI received no later than February 17, 2025.

ADDRESSES: Interested parties may submit comments electronically to FASST@hq.doe.gov and include “FASST RFI” in the subject line of the email.

FOR FURTHER INFORMATION CONTACT: Further questions may be addressed to Charles Yang through FASST@hq.doe.gov or (202) 586-6116.

SUPPLEMENTARY INFORMATION: On September 12, 2024, DOE published a RFI seeking public input to inform our ongoing work and DOE's proposed Frontiers in AI for Science, Security, and Technology (FASST) initiative.¹ FASST is DOE's proposed initiative to build the world's most powerful, integrated scientific AI systems for scientific discovery, applied energy deployment, and national security applications. Due to overwhelming public interest and several requests for extension, DOE is reopening the comment period until February 17, 2025. Note that the Government may use or disclose any information that is not appropriately marked as confidential, proprietary, or privileged information that is exempt from public disclosure, regardless of source. DOE may engage in post-response conversations with interested parties.

¹ www.energy.gov/fasst.

Signing Authority

This document of the Department of Energy was signed on December 9, 2024, by Helena Fu, Director, Office of Critical and Emerging Technologies, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 10, 2024.
Treena V. Garrett,
Federal Register Liaison Officer, U.S. Department of Energy.

[FR Doc. 2024-29364 Filed 12-12-24; 8:45 am]

BILLING CODE 6450-01-P